DEPARTMENT OF HEALTH AND HUMAN SERVICES

Decision to Evaluate a Petition To Designate a Class of Workers of North American Aviation Who Worked at the Canoga Avenue Facility, Los Angeles, CA, To Be Included in the Special Exposure Cohort

AGENCY: National Institute for Occupational Safety and Health (NIOSH), Department of Health and Human Services (HHS).

ACTION: Notice.

SUMMARY: HHS gives notice as required by 42 CFR 83.12(e) of a decision to evaluate a petition to designate a class of workers of North American Aviation who worked at the Canoga Avenue Facility, Los Angeles, California, to be included in the Special Exposure Cohort under the Energy Employees Occupational Illness Compensation Program Act of 2000. The initial proposed definition for the class being evaluated, subject to revision as warranted by the evaluation, is as follows:

Facility: Canoga Avenue Facility.

Location: Los Angeles, California.

Job Titles and/or Job Duties: All workers employed by North American Aviation who worked in any areas in any job capacity.

Period of Employment: January 1, 1955 to December 31, 1960.

FOR FURTHER INFORMATION CONTACT: Larry Elliott, Director, Office of Compensation Analysis and Support, National Institute for Occupational Safety and Health (NIOSH), 4676 Columbia Parkway, MS C-46, Cincinnati, OH 45226, Telephone 513-533-6800 (this is not a toll-free number). Information requests can also be submitted by e-mail to OCAS@CDC.GOV.

John Howard,
Director, National Institute for Occupational Safety and Health.

[FR Doc. E9-26160 Filed 10-29-09; 8:45 am]

BILLING CODE 4163-19-P